DEPARTMENT OF JUSTICE

Notice of Public Comment Period for Proposed Modification to Consent Decree Under the Clean Air Act

Under 28 CFR 50.7, notice is hereby given that, for a period of 30 days, the United States will receive public comments on a proposed Modification to Consent Decree in United States v. Cargill, Incorporated, (Civil Action No. 05-2037 JMR/FLN), which was lodged with the United States District Court for the District of Minnesota on July 11, 2008.

This proposed Modification applies only to Cargill's Dayton, Ohio, corn mill facility. The Dayton facility is one of 27 ethanol, corn mill and oilseed extraction plants subject to the original Consent Decree which was entered by the Court on March 3, 2006. The settlement resolved claims against the Dayton facility, among others, pursuant to Sections 113(b) and 211(d) of the Clean Air Act (“CAA”), 42 U.S.C. 7413(b) & 7545(d).

This proposed Modification allows for an 18-month extension of the deadline for installing air pollution controls for volatile organic compound (“VOC”) emissions at the integrated bran/feed drying process units, while accelerating the installation of nitrous oxide-reducing burners (“low-NOX burners”) on the process boiler. Overall, EPA estimates that the schedule change proposed in the Modification will result in a one-time net emission reduction of 147 tons from estimates based on the original Decree requirements.

The Department of Justice will receive, for thirty (30) days from the date of this publication, comments relating to the Modification. Comments should be addressed to the Assistant Attorney General, Environment and Natural Resources Division, and either e-mailed to pubcomment-ees.enrd@usdoj.gov or mailed to P.O. Box 7611, U.S. Department of Justice, Washington, DC 20044-7611. In either case, the comments should refer to United States v. Cargill, Inc., D.J. Ref. 90-5-2-1-07481/1.

During the public comment period, the Modification may be examined on the following Department of Justice Web site, http://www.usdoj.gov/enrd/Consent_Decrees.html. A copy of the Modification may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $7.00 (25 cents per page reproduction cost) payable to the U.S. Treasury or, if by e-mail or fax, forward a check in that amount to the Consent Decree Library at the stated address.

Robert E. Maher Jr.,
Assistant Section Chief, Environmental Enforcement Section, Environment and Natural Resources Division.

[FR Doc. E8-16756 Filed 7-22-08; 8:45 am]

BILLING CODE 4410-15-P